DEPARTMENT OF THE INTERIOR

Office of the Secretary

43 CFR Parts 2, 4, 7, 10, 13, and 35

RIN 1090-AA80

Change of Address for Office of Hearings and Appeals

AGENCY: Office of the Secretary, Interior.

ACTION: Final rule.

SUMMARY: The Department of the Interior is revising its regulations governing administrative appeals to reflect a change of address for the Office of Hearings and Appeals (OHA). OHA is moving to a new building in Arlington, Virginia, effective February 11, 2002.

DATES: This rule is effective February 11, 2002.

FOR FURTHER INFORMATION CONTACT: Charles E. Breece, Principal Deputy Director, Office of Hearings and Appeals, 4015 Wilson Boulevard, Arlington, Virginia 22203, telephone 703-235-3810. After February 11, 2002, Mr. Breece's address will change to Office of Hearings and Appeals, 801 North Quincy Street, Arlington, Virginia 22203. The phone number will remain the same.

SUPPLEMENTARY INFORMATION:

I. Background

II. Procedural Requirements

I. Background

The Department of the Interior's Office of Hearings and Appeals (OHA) conducts hearings and renders decisions in a wide variety of administrative appeals from actions taken by the bureaus and offices of the Department. OHA consists of a headquarters office, located in Arlington, Virginia, and nine field offices located throughout the country. The headquarters office contains the Office of the Director, the Interior Board of Contract Appeals, the Interior Board of Indian Appeals, the Interior Board of Land Appeals, the headquarters component of the Hearings Division, and a Division of Administration. Since 1970, the headquarters office has been located at 4015 Wilson Boulevard, and that address is included in numerous provisions of the Code of Federal Regulations relating to administrative appeals within the Department.

Effective February 11, 2002, the OHA headquarters office is being relocated to 801 North Quincy Street, Arlington, Virginia. In anticipation of that move, the Department is revising its administrative appeals regulations to reflect OHA's new street address.

II. Procedural Requirements

A. Determination To Issue Final Rule Effective in Less than 30 Days

The Department has determined that the public notice and comment provisions of the Administrative Procedure Act, 5 U.S.C. 553(b), do not apply to this rulemaking because the changes being made relate solely to matters of agency organization, procedure, and practice. They therefore satisfy the exemption from notice and comment rulemaking in 5 U.S.C. 553(b)(A).

Moreover, the Department has determined that there is good cause to waive the requirement of publication 30 days in advance of the rule's effective date under 5 U.S.C. 553(d). Since the timing of OHA's relocation is dictated by the construction schedule for the building to which OHA is moving, the actual move date was confirmed only in the past few weeks. If the changes in this rule were to become effective 30 days after publication, it could cause delays in processing appeals. A February 11, 2002, effective date means that appeals will go directly to the new address and thus will be processed more quickly. Because a February 11 effective date benefits the public, there is good cause for making this rule effective in less than 30 days, as permitted by 5 U.S.C. 553(d)(3).

B. Review Under Procedural Statutes and Executive Orders

The Department has reviewed this rule under the following statutes and executive orders governing rulemaking procedures: the Unfunded Mandates Reform Act of 1995, 2 U.S.C. 1501 et seq.; the Regulatory Flexibility Act, 5 U.S.C. 601 et seq.; the Small Business Regulatory Enforcement Fairness Act of 1996, 5 U.S.C. 801 et seq.; the Paperwork Reduction Act, 44 U.S.C. 3501 et seq.; the National Environmental Policy Act of 1969, 42 U.S.C. 4321 et seq.; Executive Order 12630 (Takings); Executive Order 12866 (Regulatory Planning and Review); Executive Order 12988 (Civil Justice Reform); Executive Order 13132 (Federalism); Executive Order 13175 (Tribal Consultation); and Executive Order 13211 (Energy Impacts). The Department has determined that this rule does not trigger any of the procedural requirements of those statutes and executive orders, since this rule merely changes the street address for OHA's headquarters office.

Dated: January 18, 2002.
P. Lynn Scarlett,
Assistant Secretary—Policy, Management and Budget.

For the reasons stated in the preamble, the Department of the Interior amends its regulations in 43 CFR parts 2, 4, 7, 10, 13, and 35 as follows:

43 CFR PART 2—[AMENDED]

1. The authority citation for part 2 continues to read as follows:

Authority: 5 U.S.C. 301, 552 and 552a; 31 U.S.C. 9701; and 43 U.S.C. 1460.

§ 2.2 [Amended]

2. In § 2.2, revise all references to “Ballston Building No. 3, 4015 Wilson Boulevard” to read “801 North Quincy Street”.

§ 2.14 [Amended]

3. In § 2.14(a)(2)(i), revise “4015 Wilson Boulevard” to read “801 North Quincy Street”.

Appendix B to Part 2 [Amended]

4. In Appendix B, paragraph 1, revise “4015 Wilson Boulevard” to read “801 North Quincy Street”.

43 CFR PART 4—[AMENDED]

5. The authority citation for part 4 continues to read as follows:

Authority: R.S. 2478, as amended, 43 U.S.C. 1201, unless otherwise noted.

Subpart C—[Amended]

6. The authority citation for part 4, subpart C continues to read as follows:

Authority: 5 U.S.C. 301 and the Contract Disputes Act of 1978 (Pub. L. 95-563, Nov. 1, 1978 (41 U.S.C. 601-613)).

7. In part 4, subpart C, revise all references to “4015 Wilson Boulevard” to read “801 North Quincy Street”.

Subpart D—[Amended]

8. The authority citation for part 4, subpart D continues to read as follows:

Authority: Secs. 1, 2, 36 Stat. 855, as amended, 856, as amended, sec. 1, 38 Stat. 586, 42 Stat. 1185, as amended, secs. 1, 2, 56 Stat. 1021, 1022; R.S. 463, 465; 5 U.S.C. 301; 25 U.S.C. secs. 2, 9, 372, 373, 374, 373a, 373b, 410; 100 Stat. 61, as amended by 101 Stat. 886 and 101 Stat. 1433, 25 U.S.C. 331 note.

9. In part 4, subpart D, revise all references to “4015 Wilson Boulevard” to read “801 North Quincy Street”.

Subpart E—[Amended]

10. The authority citation for part 4, subpart E continues to read as follows:

Authority: Sections 4.470 to 4.478 also issued under authority of sec. 2, 48 Stat. 1270; 43 U.S.C. 315a.

11. In part 4, subpart E, revise all references to “4015 Wilson Boulevard” to read “801 North Quincy Street”.

Subpart J—[Amended]

12. The authority citation for part 4, subpart J continues to read as follows:

Authority: 5 U.S.C. 301 et seq.; 25 U.S.C. 396 et seq., 396a et seq., 2101 et seq.; 30 U.S.C. 181 et seq., 351 et seq., 1001 et seq., 1701 et seq.; 31 U.S.C 9701; 43 U.S.C. 1301 et seq., 1331 et seq., and 1801 et seq.

13. In § 4.909(b)(1), revise “4015 Wilson Boulevard” to read “801 North Quincy Street”.

Subpart L—[Amended]

14. The authority citation for part 4, subpart L continues to read as follows:

Authority: 30 U.S.C. 1256, 1260, 1261, 1264, 1268, 1271, 1272, 1275, 1293; 5 U.S.C. 301.

15. In part 4, subpart L, revise all references to “4015 Wilson Boulevard” to read “801 North Quincy Street”.

Subpart M—[Amended]

16. The authority citation for part 4, subpart M continues to read as follows:

Authority: 5 U.S.C. 301

§ 4.1604 [Amended]

17. In § 4.1604, revise “room 1111, Ballston Towers Building No. 3, 4015 Wilson Boulevard” to read “801 North Quincy Street”.

PART 7—[AMENDED]

18. The authority citation for part 7 continues to read as follows:

Authority: Pub. L. 96-95, 93 Stat. 721, as amended; 102 Stat. 2983 (16 U.S.C. 470aa-mm) (Sec. 10(a). Related authority: Pub. L. 59-209, 34 Stat. 225 (16 U.S.C. 432, 433); Pub. L. 86-523; 74 Stat. 220, 221 (16 U.S.C. 469), as amended; 88 Stat. 174 (1974); Pub. L. 89-665, 80 Stat. 915 (16 U.S.C. 470a-t), as amended, 84 Stat. 204 (1970), 87 Stat. 139 (1973), 90 Stat. 1320 (1976), 92 Stat. 3467 (1978), 94 Stat. 2987 (1980); Pub. L. 95-341, 92 Stat. 469 (42 U.S.C. 1996).

§ 7.37 [Amended]

19. In § 7.37, revise all references to “4015 Wilson Boulevard” to read “801 North Quincy Street”.

PART 10—[AMENDED]

20. The authority citation for part 10 continues to read as follows:

Authority: 25 U.S.C. 3001 et seq.

§ 10.12 [Amended]

21. In § 10.12, revise all references to “4015 Wilson Boulevard” to read “801 North Quincy Street”.

PART 13—[AMENDED]

22. The authority citation for part 13 continues to read as follows:

Authority: Sec. 4, 68 Stat. 663; 20 U.S.C. 107.

§ 13.6 [Amended]

23. In § 13.6, revise “4015 Wilson Boulevard” to read “801 North Quincy Street”.

PART 35—[AMENDED]

24. The authority citation for part 35 continues to read as follows:

Authority: 5 U.S.C. 301; 31 U.S.C. 3801-3812.

§ 35.1 [Amended]

25. In § 35.1(g), revise “4015 Wilson Boulevard” to read “801 North Quincy Street”.

[FR Doc. 02-2188 Filed 1-29-02; 8:45 am]

BILLING CODE 4310-RK-P